DEPARTMENT OF THE INTERIOR

Fish and Wildlife Service

[FWS-R4-ES-2008-N0111]; [40120-1113-0000-C2]

Notice of Availability of a Technical Agency Draft Recovery Plan for the Puerto Rican Parrot for Review and Comment

AGENCY: Fish and Wildlife Service, Interior.

ACTION: Notice of document availability and opening of public comment period.

SUMMARY: We, the Fish and Wildlife Service, announce the availability of the technical agency draft revised recovery plan for the Puerto Rican Parrot (Amazona vittata). The technical agency draft revised recovery plan includes specific recovery objectives and criteria to be met in order to reclassify this species to threatened status and delist it under the Endangered Species Act of 1973, as amended (Act). We solicit review and comment on this technical agency draft recovery plan from local, state, and Federal agencies, and the public.

DATES: In order to be considered, we must receive comments on the technical agency draft recovery plan on or before August 18, 2008.

ADDRESSES: If you wish to review this technical agency revised draft recovery plan, you may obtain a copy by contacting the Caribbean Field Office, U.S. Fish and Wildlife Service, P.O. Box 491, Boquerón, Puerto Rico 00622 (telephone (787) 851-7297 Ext. 231) or by visiting our Web site at http://endangered.fws.gov/recovery/index.html#plans. If you wish to comment, you may submit your comments by the following methods:

1. You may submit written comments and materials to the Project Leader, at the above address.

2. You may hand-deliver written comments to our Caribbean Field Office, U.S. Fish and Wildlife Service, P.O. Box 491, Boquerón, Puerto Rico 00622, or fax your comments to (787) 851-7440.

3. You may send comments by e-mail to Marelisa Rivera at marelisa_rivera@fws.gov. For directions on how to submit electronic filing of comments, see the “Public Comments Solicited” section.

Comments and materials received are available for public inspection on request, by appointment, during normal business hours at the above address.

FOR FURTHER INFORMATION CONTACT: Marelisa Rivera at the above address (Telephone 787-851-7297, ext. 231).

SUPPLEMENTARY INFORMATION:

Background

Once abundant and widespread on the Puerto Rican archipelago, the Puerto Rican parrot is considered one of the ten most endangered birds in the world. Largely green with a red forehead and blue flight feathers, the parrot is one of nine Amazona parrots occurring in the West Indies. The species is one of the smallest in its genus, measuring about 29 centimeters (11 inches) in length and weighing about 270 grams (10 ounces). Presently, a minimum of 25 individuals survive in the wild in the El Yunque National Forest (YNF) in eastern Puerto Rico and 10 in the Río Abajo Forest (RAF) in north central Puerto Rico. Two captive population facilities hold more than 225 individuals: the Iguaca Aviary and the José L. Vivaldi Aviary in eastern and west-central Puerto Rico, respectively.

The Puerto Rican parrot is a fruit-eating cavity nester seldom seen far from forests. The decline of the parrot and its restricted distribution are due to many factors, but mostly due to widespread habitat loss (e.g., deforestation.) Due to its nesting requirements, it depends on mature forests with large cavity-forming trees.

At present, in addition to low numbers and a limited distribution, major threats to this species are nest competition and predation of eggs and chicks by pearly-eyed thrashers (Margarops fuscatus), predation of fledglings and adults by red-tailed hawks (Buteo jamaicensis), predation by rats (Rattus rattus and R. norvegicus), parasitism by warble flies (Philornis pici), and the impact of hurricanes. Other threats include competition for cavities with European and Africanized honeybees (Apis mellifera). Many of the threats are being controlled through management strategies.

Restoring an endangered or threatened animal or plant to the point where it is again a secure, self-sustaining member of its ecosystem is a primary goal of the endangered species program. To help guide the recovery effort, we are preparing recovery plans for most listed species. Recovery plans describe actions considered necessary for conservation of the species, establish criteria for downlisting or delisting, and estimate time and cost for implementing recovery measures.

The Act (16 U.S.C. 1533 et seq.) requires the development of recovery plans for listed species, unless such a plan would not promote the conservation of a particular species. Section 4(f) of the Act requires us to provide a public notice and an opportunity for public review and comment during recovery plan development. We will consider all information presented during a public comment period prior to approval of each new or revised recovery plan. We and other Federal agencies will take these comments into account in the course of implementing approved recovery plans.

The objective of this technical agency draft revised plan is to provide a framework for the recovery of the Puerto Rican parrot, so that protection under the Act is no longer necessary. As reclassification and recovery criteria are met, the status of the species will be reviewed and it will be considered for reclassification or removal from the Federal List of Endangered and Threatened Wildlife and Plants.

Public Comments Solicited

We solicit written comments on the recovery plan described. We will consider all comments received by the date specified above prior to final approval of the revised recovery plan.

Before including your address, phone number, e-mail address, or other personal identifying information in your comment, you should be aware that your entire comment, including your personal identifying information, may be made publicly available at any time. While you can ask us in your comment to withhold your personal identifying information from public review, we cannot guarantee that we will be able to do so.

Authority: The authority for this action is section 4(f) of the Endangered Species Act, 16 U.S.C. 1533(f).

Dated: April 24, 2008.
Cynthia K. Dohner,
Acting Regional Director.

[FR Doc. E8-13580 Filed 6-16-08; 8:45 am]

BILLING CODE 4310-55-P